DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Violence Intervention to Enrich Lives (VITEL) Supplement—NEW

This data collection is to study the intersection of intimate partner violence (IPV) and trauma for women with HIV, at risk for HIV, and at risk for substance use disorders (SUDs). VITEL provides supplemental funding to existing SAMHSA Targeted Capacity Expansion: Substance Abuse Treatment for Racial/Ethnic Minority Women at High Risk for HIV/AIDS (TCE-HIV: Minority Women) grantees. The goals of the VITEL program are (1) reduce IPV through screening and referrals, (2) reduce risky behaviors that lead to new HIV infections and SUDs, (3) increase access to care and improve health outcomes for people living with HIV and AIDS, (4) reduce HIV-related health disparities resultant from IPV screening tool implementation, and (5) determine the feasibility of integrating IPV screening in behavioral health settings. A multi-stage approach has been used to develop the appropriate theoretical framework, conceptual model, evaluation design and protocols, and data collection instrumentation. Process and outcome measures have been developed to fully capture community and contextual conditions, the scope of the VITEL program implementation and activities, and client outcomes. A mixed-method approach (e.g., surveys, semi-structured interviews, focus groups) will be used, for example, to examine collaborative community linkages established between grantees and other service providers (e.g., primary health care, SUD recovery), determine which program models and what type and amount of client exposure to services contribute to significant changes in IPV, SUD, and HIV risk behaviors of the targeted populations, and determine the impact of VITEL services on providers, clients, and communities.

The data collection for this program will be conducted quarterly (during this one year supplemental period) and the client outcome data collection will be ongoing throughout the program and will be collected at baseline, discharge and 6-months post baseline for all treatment clients. The respondents are clinic-based social workers and counselors, clinic-based administrators and clinic-based clients. The estimated annualized burden is summarized below:

Instrument/activity | Number of respondents | Responses per respondent | Total response numbers | Total response numbers | Hours per response | Total burden hours
Baseline data collection (Clients) | 500 | 1 | 500 | 500 | .42 | 210
Discharge data collection (Clients) | 500 | 1 | 500 | 500 | .42 | 210
6-month post Baseline data collection (Clients) | 500 | 1 | 500 | 500 | .42 | 210
Interaction Form (Client) | 500 | 1 | 500 | 500 | .42 | 210
Treatment Focus Group (Client) | 45 | 2 | 90 | 90 | 1.0 | 90
Client Sub-total | 2,045 |  |  |  |  | 930
Executives and Project Director/Program Manager (Semi-Structured Interviews) | 10 | 1 | 10 | 10 | .75 | 7.5
Executives and Project Director/Program Manager (Progress Report) | 5 | 1 | 5 | 5 | 3.0 | 15
Direct Staff (Semi-Structured Interviews) | 10 | 1 | 10 | 10 | .75 | 7.5
Community Collaborators (Semi-Structured Interviews) | 10 | 1 | 10 | 10 | 1.0 | 5
Staff Sub-total | 35 |  |  |  |  | 40
Total | 2,080 |  |  |  |  | 970

Send comments to Summer King, SAMHSA Reports Clearance Officer, Room 2-1057, One Choke Cherry Road, Rockville, MD 20857 OR email her a copy at summer.king@samhsa.hhs.gov. Written comments should be received by December 7, 2015.

Summer King,
Statistician.

[FR Doc. 2015-25661 Filed 10-7-15; 8:45 am]

BILLING CODE 4162-20-P